DEPARTMENT OF STATE

[Public Notice 7504]

Assistance to Southern Sudan and the United States Contribution to the Global Fund To Fight AIDS, Tuberculosis and Malaria (Global Fund) for Fiscal Year 2009

AGENCY: Department of State.

ACTION: Notice of a Waiver Determination under Section 202(d)(4)(A)(ii) of the United States Leadership against HIV/AIDS, Tuberculosis, and Malaria Act of 2003, as amended, for Fiscal Year 2009.

SUMMARY: This is a notice of a waiver determination under Section 202(d)(4)(A)(ii) of the United States Leadership Against HIV/AIDS, Tuberculosis, and Malaria Act of 2003, as amended by the Tom Lantos and Henry J. Hyde United States Global Leadership Against HIV/AIDS, Tuberculosis, and Malaria Reauthorization Act of 2008 (the Leadership Act). The Leadership Act requires that the U.S. Global AIDS Coordinator withhold from the U.S. contribution to the Global Fund an amount equal to expenditures by the Global Fund in the previous fiscal year to governments of countries that have been determined to have repeatedly provided support for acts of international terrorism in accordance with section 6(j)(1) of the Export Administration Act of 1979 (50 U.S.C. App. 2405 (j)(1)) (the “6(j) list”).

The government of the Republic of Sudan is designated on the “6(j) list.” Thus, Global Fund expenditures to the Government of the Republic of Sudan trigger a withholding requirement from the U.S. contribution to the Global Fund, subject to the waiver authority provided for Global Fund expenditures in Southern Sudan. During FY 2008, $301,416 was provided to government entities in Southern Sudan under HIV/AIDS grants, thus triggering a potential withholding requirement in this amount from the FY 2009 U.S. contribution to the Global Fund. These funds were used to support State HIV/AIDS Commissions in all ten southern Sudan states, provide needed financial support for project specialists, and meet other incurred expenses under HIV/AIDS grants.

Under the Leadership Act, the President has authority to waive the withholding requirement for assistance overseen by the Southern Sudan Country Coordinating Mechanism (SSCCM) if such an action is justified by the national interest or for humanitarian reasons. This authority has been delegated to the U.S. Global AIDS Coordinator. The United States places a high priority on ensuring appropriate disbursement and expenditure of foreign development and humanitarian funding. Following consultations with the relevant Congressional committees, the U.S. Global AIDS Coordinator has determined waiver of the withholding requirement for assistance by the Global Fund to the Autonomous Government of Southern Sudan through the Global Fund SSCCM is justified for humanitarian reasons. The application of the withholding requirement of Section 202(d)(4)(A)(ii) of the Act is hereby waived with respect to such assistance, allowing for the additional contribution of $301,416 to the Global Fund from the FY 2009 appropriations for the U. S. contribution to the Global Fund. This notice of waiver determination is published in the Federal Register in compliance with Section 202(d)(4)(A)(ii) of the Leadership Act.

FOR FURTHER INFORMATION CONTACT: Guinnevere Roberts, Director, Multilateral Diplomacy, Office of the Global AIDS Coordinator, (202) 663-2586

Dated: June 14, 2011.
Eric P. Goosby,
Ambassador, Office of the U.S. Global AIDS, Coordinator, Department of State.

[FR Doc. 2011-15074 Filed 6-16-11; 8:45 am]

BILLING CODE 4710-10-P